DEPARTMENT OF COMMERCE

National Oceanic and Atmospheric Administration

[I.D. 072604A]

RIN 0648-AP02

Fisheries of the Caribbean, Gulf of Mexico, and South Atlantic; Reef Fish Fishery of the Gulf of Mexico; Red Snapper Rebuilding Plan

AGENCY: National Marine Fisheries Service (NMFS), National Oceanic and Atmospheric Administration (NOAA), Commerce.

ACTION: Notice of availability of Amendment 22 to the Fishery Management Plan (FMP) for the Reef Fish Resources of the Gulf of Mexico (Amendment 22); request for comments.

SUMMARY: NMFS announces the availability of Amendment 22 prepared by the Gulf of Mexico Fishery Management Council (Council). Amendment 22 would provide the regulatory authority to implement a mandatory observer program for selected commercial and for-hire (charter vessel/headboat) vessels in the Gulf of Mexico reef fish fishery. This observer program would be an important component of a standardized methodology to collect bycatch information in the fishery. In addition, consistent with the requirements of the Magnuson-Stevens Fishery Conservation and Management Act (Magnuson-Stevens Act), Amendment 22 would establish a stock rebuilding plan, biological reference points, and stock status determination criteria for red snapper in the Gulf of Mexico. The intended effect of these proposed regulations is to end overfishing and rebuild the red snapper resource.

DATES: Written comments must be received no later than 5 p.m., eastern time, on or before October 4, 2004.

ADDRESSES: You may submit comments by any of the following methods:

• E-mail: 0648-AP02.NOA@noaa.gov. Include in the subject line the following identifier: 0648-AP02.

• Federal e-Rulemaking Portal: http://www.regulations.gov.

• Mail: Peter Hood, Southeast Regional Office, NMFS, 9721 Executive Center Drive N., St. Petersburg, FL 33702.

Copies of Amendment 22, which includes a Regulatory Impact Review (RIR), Initial Regulatory Flexibility Analyses (IRFA), and a Supplemental Environmental Impact Statement (SEIS) may be obtained from the Gulf of Mexico Fishery Management Council, The Commons at Rivergate, 3018 U.S. Highway 301 North, Suite 1000, Tampa, FL 33619-2266; telephone: 813-228-2815; fax: 813-225-7015; e-mail: gulfcouncil@gulfcouncil.org. Copies of Amendment 22 can also be downloaded from the Council's website at www.gulfcouncil.org.

Written comments regarding the burden-hour estimates or other aspects of the collection-of-information requirements contained in this rule must be submitted to Robert Sadler, Southeast Region, NMFS, at the St. Petersburg mailing address stated above, and by e-mail to David_Rostker@omb.eop.gov, or fax to 202-395-7285.

FOR FURTHER INFORMATION CONTACT: Peter Hood, telephone: 727-570-5305, fax: 727-570-5583, e-mail: peter.hood@noaa.gov.

SUPPLEMENTARY INFORMATION: The reef fish fishery in the exclusive economic zone (EEZ) of the Gulf of Mexico is managed under the FMP. The FMP was prepared by the Council and is implemented under the authority of the Magnuson-Stevens Act by regulations at 50 CFR part 622.

Background

In May 2001, the Council submitted to NMFS a regulatory amendment to the FMP, based on NMFS's 1999 stock assessment, that proposed to redefine biological reference points and status determination criteria for the red snapper stock and proposed a plan to rebuild the red snapper stock to the stock biomass capable of producing maximum sustainable yield on a continuous basis (BMSY) by the year 2032. The rebuilding plan proposed in the regulatory amendment was based on analyses provided by NMFS in 2000. Because the incidental catch of juvenile (age 0-age 1) red snapper in the shrimp trawl fishery comprises the vast majority of the total fishing mortality on red snapper, the success of the rebuilding plan is primarily dependent upon potential reductions in shrimp trawl bycatch.

According to NMFS's stock assessment, the number of juvenile red snapper taken incidental to the shrimp trawl fisheries accounted for about 90 percent of the total red snapper harvest prior to the implementation of a April 14, 1998, rule (63 FR 1813) requiring the use of bycatch reduction devices (BRDs), which are estimated to have reduced shrimp trawl bycatch mortality of red snapper by 40 percent. However, the Council's Reef Fish Stock Assessment Panel indicated even greater reductions would be required to rebuild the red snapper stock to BMSY within the maximum recommended 31-year time frame, even if the directed red snapper fishery were eliminated.

NMFS returned the red snapper regulatory amendment to the Council in July 2002, identifying the need to further explore alternative rebuilding plans based on realistic expectations for further reductions in shrimp trawl bycatch, and to more fully evaluate the impacts of these alternatives in a Supplemental Environmental Impact Statement (SEIS). Additionally, NMFS suggested the need to better address the bycatch provisions of the Magnuson-Stevens Act. Amendment 22 was developed in response to NMFS's suggestions.

Biological Reference Points and Stock Status Determination Criteria Proposed in Amendment 22

Consistent with the requirements of the Magnuson-Stevens Act, Amendment 22 would establish the following biological reference points and stock status criteria for Gulf of Mexico red snapper: maximum sustainable yield (MSY); optimum yield (OY); maximum fishing mortality threshold (MFMT) (the fishing mortality rate which, if exceeded, would constitute overfishing); and minimum stock size threshold (MSST) (the stock size below which the stock would be considered overfished).

MSY for red snapper would equal the yield associated with fishing at FMSY (currently estimated at 0.092); thus, MSY would equal 41.13 million lb (18.66 million kg) whole weight (wwt), assuming low maximum recruitment and an initial steepness of 0.90 for the stock-recruitment relationship.

Until the red snapper stock recovers to the target level, BMSY, the harvest for red snapper would be defined as consistent with the rebuilding strategy proposed in Amendment 22. After achieving BMSY, the OY for red snapper would correspond to a fishing mortality rate (FOY) defined as FOY = 0.75*FMSY = 0.069.

Red snapper MSST would equal (1-M) *BMSY = 2.453 billion lb (1.112 billion kg) wwt where BMSY = 2.726 billion lb (1.237 billion kg) wwt and M (natural mortality) = 0.1.

Red snapper MFMT would be equal to FMSY which is currently estimated at 0.092.

Stock Rebuilding Plan

The Magnuson-Stevens Act requires a rebuilding plan to establish a schedule for rebuilding an overfished stock that is as short as possible, and not to exceed 10 years, except in cases where the biology of the stock, other environmental conditions, or management measures under an international agreement dictate otherwise. The National Standard Guidelines provide a formula for calculating the maximum rebuilding schedule in situations where it would take 10 years or longer to rebuild a stock to BMSY in the absence of fishing mortality. Applied to the red snapper stock, this formula defines the maximum recommended rebuilding schedule as 31 years (e.g., time it would take to rebuild the stock to BMSY in the absence of fishing mortality (12 years) plus one mean generation time (19.6 years)). Implicit to establishing a rebuilding plan for a stock is the assumption that overfishing will end sometime during the rebuilding period. When overfishing ends depends on the type of rebuilding schedule selected.

For Gulf of Mexico red snapper, the rebuilding plan would initially maintain total allowable catch at 9.12 million lb (4.14 million kg) wwt, end overfishing between 2009 and 2010, and rebuild the red snapper stock by 2032. The status of the stock would be reviewed and management measures would be adjusted, as necessary, based upon periodic stock assessments. The next stock assessment is scheduled for late 2004. Annual landings also would be monitored to ensure quotas are not exceeded.

Bycatch Reporting Methodology

The Council is required by the Magnuson-Stevens Act to establish a standardized bycatch reporting methodology for Federal fisheries. Current regulations require commercial and recreational for-hire participants in the Gulf of Mexico reef fish fishery who are selected by the Southeast Science and Research Director (SRD) to maintain and submit a fishing record, including bycatch information, on forms provided by the SRD.

To enhance current bycatch reporting, Amendment 22 would provide for the establishment of a mandatory observer program for the reef fish fishery. NMFS would develop a procedure for the random selection of vessels for which a Federal commercial vessel permit or charter vessel/headboat permit for Gulf of Mexico reef fish has been issued. A vessel selected by NMFS would be required to carry a NMFS-approved observer. The owner or operator of a vessel selected for observer coverage would be required to provide food and accommodations for the observer and provide the observer access to the vessel's equipment, personnel, and physical space sufficient to carry out the observer's duties. The costs associated with observer coverage, other than food and accommodations, would be borne by NMFS. In selecting vessels, NMFS would consider the suitability of the vessel for observer coverage and would ensure that the universe of vessels included is representative of all statistical sub-zones in the Gulf of Mexico. Vessel permits would not be renewed for vessels that fail or refuse to carry observers in accordance with this process. NMFS would initiate full implementation of the observer program as soon as sufficient funding for the program is obtained.

In addition, to further improve bycatch reporting for the headboat sector of the Gulf of Mexico reef fish fishery, NMFS's Marine Recreational Fisheries Statistical Survey (MRFSS) would be enhanced by including headboats, using the same sampling methodology as is currently used for charter vessels. The existing MRFSS catch-and-effort program would be continued to collect bycatch information from the private recreational sector of the fishery.

A proposed rule that would implement measures outlined in Amendment 22 has been prepared. In accordance with the Magnuson-Stevens Act, NMFS is evaluating the proposed rule to determine whether it is consistent with Amendment 22, the FMP, the Magnuson-Stevens Act, and other applicable law. If that determination is affirmative, NMFS will publish the proposed rule in the Federal Register for public review and comment.

Written comments received by October 4, 2004, whether specifically directed to the FMP or the proposed rule, will be considered by NMFS in its decision to approve, disapprove, or partially approve Amendment 22. Comments received after that date will not be considered by NMFS in this decision. Written comments received by NMFS on Amendment 22 or the proposed rule during their respective comment periods will be addressed in the final rule.

Authority: 16 U.S.C. 1801 et seq.

Dated: July 27, 2004.
Alan D. Risenhoover,
Acting Director, Office of Sustainable Fisheries, National Marine Fisheries Service.

[FR Doc. 04-17666 Filed 8-2-04; 8:45 am]

BILLING CODE 3510-22-S